DEPARTMENT OF ENERGY

Revocation of Prohibition Order Securing Critical Defense Facilities

AGENCY: Office of Electricity, Department of Energy.

ACTION: Revocation of prohibition order.

SUMMARY: The U.S. Department of Energy (DOE or Department) gives notice that the Prohibition Order Securing Critical Defense Facilities, dated December 17, 2020 (December 2020 Prohibition Order), is revoked.

DATES: The effective date of the revocation of the December 2020 Prohibition Order is April 20, 2021.

FOR FURTHER INFORMATION CONTACT: Patricia A. Hoffman, Acting Assistant Secretary, Office of Electricity, U.S. Department of Energy, Mailstop OE-20, Room 8G-042, 1000 Independence Avenue SW, Washington, DC 20585; (202) 586-1411, or electricsystemEO@hq.doe.gov.

SUPPLEMENTARY INFORMATION: The Nation's energy infrastructure supports our national defense, critical infrastructure, economy, and way of life. Adversarial nation-state actors are targeting our critical infrastructure, with increasing focus on the energy sector. The Department is engaged in partnership with the electricity subsector and other Federal agencies, in a comprehensive set of actions to strengthen supply chain risk management and recognizes the threat our foreign adversaries pose to our critical infrastructure.

In order to build on the work the Department has already completed in securing the electric system, the Department is developing recommendations to strengthen requirements and capabilities for supply chain risk management practices by the Nation's electric utilities. These recommendations are intended to enable an approach that builds on, clarifies, and, where appropriate, modifies prior executive and agency actions.

Executive Order 13920, Securing the United States Bulk-Power System, (E.O. 13920),¹ issued on May 1, 2020, declared an emergency that authorized the Secretary of Energy (Secretary) to, among other actions, prohibit the acquisition, transfer, or installation of certain BPS electric equipment sourced from foreign adversary countries for one year.² On December 17, 2020, the Secretary issued the December 2020 Prohibition Order, which took effect January 16, 2021, invoking the authority of E.O. 13920.³ Pursuant to the December 2020 Prohibition Order, a limited number of utilities ⁴ were prohibited from acquiring, importing, transferring, or installing certain BPS electric equipment.⁵ That order targeted select equipment manufactured or supplied by persons owned by, controlled by, or subject to the jurisdiction or direction of the People's Republic of China.⁶

¹ Executive Order 13920, Securing the United States Bulk-Power System: Request for Information, 85 FR 26595 (May 4, 2020).

² Id. at 26595-26596.

³ Prohibition Order Securing Critical Defense Facilities, 86 FR 533 (Jan. 6, 2021).

⁴ The December 2020 Prohibition Order defined “Responsible Utility” as “an electric utility that owns or operates Defense Critical Electric Infrastructure (DCEI), as defined by section 215A(a)(4) of the Federal Power Act (FPA), that actively serves a CDF, as designated by the Secretary under section 215A(c) of the FPA.” Id. at 534.

⁵ Id.

⁶ Id.

On January 20, 2021, Executive Order 13990, Protecting Public Health and the Environment and Restoring Science to Tackle the Climate Crisis (E.O. 13990), was issued, which suspended E.O. 13920 for 90 days and directed the Secretary of Energy and the Director of the Office of Management and Budget jointly to “consider whether to recommend that a replacement order be issued.” ⁷ As the December 2020 Prohibition Order is predicated on the authorities delegated to DOE by E.O. 13920, the December 2020 Prohibition Order was also suspended during the same time period.

⁷ Executive Order 13990, Protecting Public Health and the Environment and Restoring Science to Tackle the Climate Crisis, § 7(c), 86 FR 7037, 7042 (Jan. 25, 2021).

The Department is revoking the December 2020 Prohibition Order effective April 20, 2021, in order to create a stable policy environment before the emergency declaration made by E.O. 13920 expires on May 1, 2021, and while the Department conducts a Request for Information to develop a strengthened and administrable strategy to address the security of the U.S. energy sector.

Signing Authority

This document of the Department of Energy was signed on April 19, 2021, by Jennifer Granholm, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 20, 2021.
Treena V. Garrett,
Federal Register Liaison Officer, U.S. Department of Energy.

[FR Doc. 2021-08483 Filed 4-21-21; 8:45 am]

BILLING CODE 6450-01-P